DEPARTMENT OF COMMERCE

International Trade Administration

[A-533-877]

Stainless Steel Flanges From India: Preliminary Results of Antidumping Duty Administrative Review; 2018-2019

AGENCY: Enforcement and Compliance, International Trade Administration, Department of Commerce.

SUMMARY: The Department of Commerce (Commerce) preliminarily determines that producers/exporters of stainless steel flanges from India made sales of subject merchandise at prices below normal value during the period of review (POR), March 28, 2018, through September 30, 2019. We invite interested parties to comment on these preliminary results.

DATES: Effective February 24, 2021.

FOR FURTHER INFORMATION CONTACT: Benito Ballesteros, AD/CVD Operations, Office V, Enforcement and Compliance, International Trade Administration, U.S. Department of Commerce, 1401 Constitution Avenue NW, Washington, DC 20230; telephone: (202) 482-7425.

SUPPLEMENTARY INFORMATION:

Background

On October 9, 2018, Commerce published the Order in the Federal Register.¹ On December 11, 2019, based on timely requests for review, in accordance with 19 CFR 351.221(c)(i), Commerce published the notice of initiation of this administrative review.² Commerce selected Chandan Steel Limited (Chandan) as the mandatory respondent in this review.³

¹ See Stainless Steel Flanges from India: Antidumping Duty Order, 83 FR 50639 (October 9, 2018) (Order).

² See Initiation of Antidumping and Countervailing Duty Administrative Reviews, 84 FR 67712 (December 11, 2019) (Initiation Notice).

³ See Memorandum, “Antidumping Duty Administrative Review of Stainless Steel Flanges from India, 2018-2019: Respondent Selection,” dated March 13, 2020.

On April 24, 2020, Commerce tolled all deadlines in administrative reviews by 50 days.⁴ On July 21, 2020, Commerce tolled all deadlines in administrative reviews by an additional 60 days.⁵ On October 1, 2020, Commerce extended the deadline of the preliminary results of review by 59 days, until December 18, 2020, in accordance with 751(a)(3)(A) of the Tariff Act of 1930, as amended (the Act).⁶ On December 7, 2020, in accordance with section 751(a)(3)(A) of the Act, Commerce extended the deadline for the preliminary results by an additional 61 days, until February 17, 2021.⁷

⁴ See Memorandum, “Tolling of Deadlines for Antidumping and Countervailing Duty Administrative Reviews in Response to Operation Adjustments Due to COVID-19,” dated April 24, 2020.

⁵ See Memorandum, “Tolling of Deadlines for Antidumping and Countervailing Duty Administrative Reviews,” dated July 21, 2020.

⁶ See Memorandum, “Stainless Steel Flanges from India: Extension of Deadline for Preliminary Results of 2018-2019 Antidumping Administrative Review,” dated October 1, 2020.

⁷ See Memorandum, “Stainless Steel Flanges from India: Extension of Deadline for Preliminary Results of 2018-2019 Antidumping Duty Administrative Review,” dated December 7, 2020.

For a complete description of the events that followed the initiation of this review, see the Preliminary Decision Memorandum.⁸ The Preliminary Decision Memorandum is a public document and is made available to the public via Enforcement and Compliance's Antidumping and Countervailing Duty Centralized Electronic Service System (ACCESS). ACCESS is available to registered users at http://access.trade.gov. In addition, a complete version of the Preliminary Decision Memorandum is available at http://enforcement.trade.gov/frn/. The signed and electronic versions of the Preliminary Decision Memorandum are identical in content.

⁸ See Memorandum, “Decision Memorandum for the Preliminary Results of Antidumping Duty Administrative Review: Stainless Steel Flanges from India; 2018-2019,” dated concurrently with, and hereby adopted by, this notice (Preliminary Decision Memorandum).

Scope of the Order

The products covered by the Order are stainless steel flanges from India. For a complete description of the scope, see the Preliminary Decision Memorandum.

Methodology

Commerce is conducting this review in accordance with section 751(a) of the Act. Pursuant to section 776(a) of the Act, Commerce is preliminarily relying upon facts otherwise available to assign a dumping margin to Chandan because the company withheld necessary information that was requested by Commerce and failed to timely provide information in the form requested, thereby significantly impeding this review. Further, Commerce preliminarily determines that Chandan failed to cooperate by not acting to the best of its ability to comply with requests for information and, thus, Commerce is applying an adverse inference in selecting among the facts available, in accordance with section 776(b) of the Act. For a full description of the methodology underlying our conclusions regarding the application of adverse facts available (AFA), see the Preliminary Decision Memorandum. A list of topics discussed in the Preliminary Decision Memorandum is included as Appendix I to this notice.

Rate for Non-Selected Companies

The Act and Commerce's regulations do not address the rate to be applied to companies not selected for examination when Commerce limits its examination in an administrative review pursuant to section 777A(c)(2) of the Act. Generally, Commerce looks to section 735(c)(5) of the Act for guidance when assigning a rate to companies not selected for individual examination in an administrative review. Under section 735(c)(5)(A) of the Act, the all-others rate is normally “an amount equal to the weighted average of the estimated weighted-average dumping margins established for exporters and producers individually investigated, excluding any zero or de minimis margins, and any margins determined entirely {on the basis of facts available}.” Under section 735(c)(5)(B) of the Act, if the estimated dumping margins established for all exporters and producers individually investigated are zero or de minimis margins, or are determined entirely under section 776, the administering authority may use any reasonable method to establish the estimated all-others rate for exporters and producers not individually investigated, including averaging the dumping margins determined for the exporters and producers individually investigated.

In this review, we have preliminarily assigned a dumping margin to Chandan that is determined entirely on the basis of AFA. In accordance with the U.S. Court of Appeals for the Federal Circuit's decision in Albemarle,⁹ Commerce has preliminarily assigned to the companies not individually examined (see Appendix II for a full list of these companies) a margin of 145.25 percent, which is the dumping margin assigned to Chandan in these preliminary results of review.¹⁰

⁹ See Albemarle Corp. v. United States, 821 F. 3d 1345 (Fed. Cir. 2016) (Albemarle).

¹⁰ See, e.g., Heavy Walled Rectangular Welded Carbon Steel Pipes and Tubes from the Republic of Turkey: Final Results of Antidumping Duty Administrative Review and Final Determination of No Shipments; 2017-2018, 84 FR 64455 (November 22, 2019) (applying a rate based on the mandatory respondent's total AFA rate to the companies not selected for individual examination); see also Certain Steel Nails from Taiwan: Preliminary Results of Antidumping Duty Administrative Review and Preliminary Determination of No Shipments; 2018-2019, 85 FR 19138 (April 6, 2020) (applying a rate based on an the mandatory respondents' total AFA rates to the companies not selected for individual examination), unchanged in Certain Steel Nails from Taiwan: Final Results of Antidumping Duty Administrative Review and Final Determination of No Shipments; 2018-2019, 85 FR 76014 (November 27, 2020).

Preliminary Results of the Review

We preliminarily determine that the following dumping margins exist for the period March 28, 2018, through September 30, 2019:

¹¹ See Order, 83 FR at 50640.

¹² See Appendix II.

Exporter/producer | Dumping margin (percent) | Cash deposit rate (adjusted for subsidy offsets) (percent) ¹¹
Chandan Steel Limited | 145.25 | 140.38
Companies Not Individually Examined (excluding Bebitz Flanges Works Private Limited) ¹² | 145.25 | 140.38
Bebitz Flanges Works Private Limited | 145.25 | 145.25

Disclosure and Public Comment

Normally, Commerce discloses the calculations performed in connection with preliminary results to interested parties within five days after the date of public announcement or publication of this notice.¹³ Because Commerce preliminarily applied a rate based on total AFA to the mandatory respondent in this review, in accordance with section 776 of the Act, there are no calculations to disclose.

¹³ See 19 CFR 351.224(b).

Pursuant to 19 CFR 351.309(c), interested parties may submit case briefs no later than 30 days after the date of publication of this notice. Rebuttal briefs, limited to issues raised in the case briefs, may be filed not later than seven days after the date for filing case briefs. Note that Commerce has temporarily modified certain of its requirements for serving documents containing business proprietary information, until further notice.¹⁴

¹⁴ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect)”); and Temporary Rule Modifying AD/CVD Service Requirements Due to COVID-19; Extension of Effective Period, 85 FR 41363 (July 10, 2020).

Parties who submit case briefs or rebuttal briefs in this proceeding are encouraged to submit with each argument: (1) A statement of the issues, (2) a brief summary of the argument, and (3) a table of authorities.¹⁵ Executive summaries should be limited to five pages total, including footnotes. Case and rebuttal briefs should be filed using ACCESS.¹⁶

¹⁵ See 19 CFR 351.303 (for general filing requirements).

¹⁶ See generally 19 CFR 351.303.

Pursuant to 19 CFR 351.310(c), interested parties who wish to request a hearing must submit a written request to the Assistant Secretary for Enforcement and Compliance, filed via ACCESS, within 30 days after the date of publication of this notice. An electronically-filed request must be received successfully in its entirety by 5:00 p.m. Eastern Time within 30 days of the date of publication of this notice. Requests should contain: (1) The party's name, address, and telephone number; (2) the number of participants; and (3) a list of issues to be discussed. Issues raised in the hearing will be limited to those raised in the respective case and rebuttal briefs. If a request for a hearing is made, Commerce intends to hold the hearing at a time and date to be determined.

Assessment Rates

Upon issuance of the final results of this review, Commerce will determine, and U.S. Customs and Border Protection (CBP) shall assess, antidumping duties on all appropriate entries of subject merchandise covered by this review. We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

If these preliminary results are unchanged for the final results, we will instruct CBP to apply an ad valorem assessment rate of equal to the dumping margins stated above, adjusted for subsidy offsets to all entries of subject merchandise during the POR which were produced and/or exported by Chandan or exported by the companies which were not selected for individual examination. We intend to instruct CBP to take into account the “provisional measures deposit cap,” in accordance with 19 CFR 351.212(d).

Cash Deposit Requirements

The following cash deposit requirements will be effective upon publication of the notice of final results of this administrative review for all shipments of the subject merchandise entered, or withdrawn from warehouse, for consumption on or after the date of publication, as provided by section 751(a)(2) of the Act: (1) The cash deposit rate for Chandan and the companies not individually examined will be equal to the rate established for Chandan in the final results of this administrative review; (2) for merchandise exported by producers or exporters not covered by this review but covered by a prior segment of the proceeding, the cash deposit rate will continue to be the company-specific rate published for the most recently completed segment of this proceeding; (3) if the exporter is not a firm covered by this review, a prior review, or the original investigation but the producer is, then the cash deposit rate will be the rate established for the most recently completed segment of this proceeding for the producer of the merchandise; (4) the cash deposit rate for all other producers or exporters will continue to be 14.29 percent, adjusted for subsidy offsets,¹⁷ the all-others rate established in the less-than-fair-value investigation. These cash deposit requirements, when imposed, shall remain in effect until further notice.

¹⁷ See Order, 83 FR at 50639.

Final Results of Review

Unless otherwise extended, Commerce intends to issue the final results of this administrative review, which will include our analysis of the issues raised in any case and rebuttal briefs, not later than 120 days after the date of publication of this notice, pursuant to section 751(a)(3)(A) of the Act.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

The preliminary results of this administrative review and notice are issued and published in accordance with sections 751(a)(1) and 777(i)(1) of the Act, and 19 CFR 351.221(b)(4).

Dated: February 17, 2021.
Christian Marsh,
Acting Assistant Secretary for Enforcement and Compliance.

Appendix I

List of Topics Discussed in the Preliminary Decision Memorandum

I. Summary

II. Background

III. Scope of the Order

IV. Use of Facts Available and Adverse Inferences

V. Rate for Non-Selected Companies

VI. Recommendation

Appendix II

List of Non-Selected Companies

1. Arien Global

2. Armstrong International Pvt. Ltd

3. Avinimetal

4. Balkrishna Steel Forge Pvt. Ltd

5. Bebitz Flanges Works Private Limited

6. Bee Gee Enterprises

7. Bsl Freight Solutions Pvt., Ltd

8. CD Industries (Prop. Kisaan Engineering Works Pvt. Ltd)

9. Cipriani Harrison Valves Pvt. Ltd

10. CTL Logistics (India) Pvt. Ltd

11. Echjay Forgings Private Ltd ¹⁸

¹⁸ In the Initiation Notice, this company also appeared as “Echjay Forgings Private Limited.” See Initiation Notice, 84 FR at 67714.

12. Fivebros Forgings Pvt. Ltd

13. Fluid Controls Pvt. Ltd

14. Geodis Oversea Pvt., Ltd

15. Globelink WW India Pvt., Ltd

16. Goodluck India Ltd

17. Hilton Metal Forging Limited

18. Jai Auto Pvt. Ltd

19. Jay Jagdamba Forgings Private Limited

20. Jay Jagdamba Limited ¹⁹

¹⁹ In the Initiation Notice, this company also appeared as “Jay Jagdamba Ltd.” Id.

21. Jay Jagdamba Profile Private Limited

22. Kisaan Die Tech

23. Kunj Forgings Pvt. Ltd

24. Montane Shipping Pvt., Ltd

25. Noble Shipping Pvt. Ltd

26. Paramount Forge

27. Pashupati Tradex Pvt., Ltd

28. Peekay Steel Castings Pvt. Ltd

29. Pradeep Metals Ltd

30. R D Forge Pvt., Ltd

31. Rolex Fittings India Pvt. Ltd

32. Rollwell Forge Pvt. Ltd

33. Safewater Lines (I) Pvt. Ltd

34. Saini Flange Pvt. Ltd

35. SAR Transport Systems

36. Shilpan Steelcast Pvt. Ltd

37. Shree Jay Jagdamba Flanges Pvt. Ltd

38. Teamglobal Logistics Pvt. Ltd

39. Technical Products Corporation

40. Technocraft Industries India Ltd

41. Transworld Global

42. VEEYES Engineering Pvt. Ltd

43. Vishal Shipping Agencies Pvt. Ltd

44. Yusen Logistics (India) Pvt. Ltd

[FR Doc. 2021-03787 Filed 2-23-21; 8:45 am]

BILLING CODE 3510-DS-P